DEPARTMENT OF JUSTICE

Drug Enforcement Administration

[Docket No. DEA-729]

Bulk Manufacturer of Controlled Substances Application: Euticals, Inc.

AGENCY: Drug Enforcement Administration, Justice.

ACTION: Notice of application.

SUMMARY: Euticals Inc. has applied to be registered as a bulk manufacturer of basic class(es) of controlled substance(s). Refer to Supplemental Information listed below for further drug information.

DATES: Registered bulk manufacturers of the affected basic class(es), and applicants therefore, may file written comments on or objections to the issuance of the proposed registration on or before December 14, 2020. Such persons may also file a written request for a hearing on the application on or before December 14, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on September 21, 2020, Euticals Inc., 2460 West Bennett Street, Springfield, Missouri 65807-1229, applied to be registered as an bulk manufacturer of the following basic class(es) of controlled substance(s):

Controlled substance | Drug code | Schedule
Marihuana | 7360 | I

The company plans to manufacture synthetic Cannabidiol to be distributed as an Active Pharmaceutical Ingredient (API) to its customers. No other activity for these drug codes is authorized for this registration.

William T. McDermott,
Assistant Administrator.

[FR Doc. 2020-22692 Filed 10-13-20; 8:45 am]

BILLING CODE P